NATIONAL SCIENCE FOUNDATION

Service Contract Inventory; Notice of Availability

AGENCY: National Science Foundation.

ACTION: Notice.

SUMMARY: The Division of Acquisition and Cooperative Support within the National Science Foundation (NSF) is publishing this notice to advise the public of the availability of its Fiscal Year (FY) 2020 Service Contracts Inventory Analysis Report.

FOR FURTHER INFORMATION CONTACT: Raymond McCollum, Policy Branch Chief, Division of Acquisition and Cooperative Support, National Science Foundation. Phone: 703-292-4225; email: rmccollu@nsf.gov.

SUPPLEMENTARY INFORMATION: NSF's FY 2020 Service Contract Inventory Analysis Report is included as part of a governmentwide service contract inventory. The inventory includes covered service contracts that were awarded in FY 2020. The NSF analyzes this data for the purpose of determining whether its contract labor is being used in an effective and appropriate manner and if the mix of federal employees and contractors in the agency is effectively balanced. The report does not include contractor proprietary or sensitive information.

The FY 2020 Service Contract Inventory Analysis Report is provided at the following link: https://www.nsf.gov/bfa/dcca/contracts/index.jsp.

Authority: 42 U.S.C. 1861, et seq.

Dated: November 30, 2021.
Raymond L. McCollum,
Policy Branch Chief, National Science Foundation.

[FR Doc. 2021-26335 Filed 12-3-21; 8:45 am]

BILLING CODE 7555-01-P